DEPARTMENT OF ENERGY

Federal Energy Regulatory Commission

[Docket No. CP11-545-000]

Tennessee Gas Pipeline Company; Notice of Request Under Blanket Authorization

Take notice that on September 9, 2011, Tennessee Gas Pipeline Company (Tennessee), 1001 Louisiana Street, Houston, Texas 77002 filed a prior notice request in accordance with sections 157.205, 157.216(b) of the Federal Energy Regulatory Commission's (Commission) Regulations under the Natural Gas Act and Tennessee's authorization in Docket No. CP82-413-000, to abandon in place and by removal an inactive supply lateral designated as Line No. 524C-900 (Supply Lateral) and associated meters and appurtenances located in Lafourche Parish, Louisiana and extending into the state waters of offshore Louisiana in the Bay Marchand Area, all as more fully set forth in the application, which is open to the public for inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding the application should be directed to Thomas G. Joyce, Manager, Certificates & Compliance, Tennessee Gas Pipeline Company, 1001 Louisiana Street, or telephone (713) 420-3299, or fax (713) 420-160 or by e-mail tom.joyce@elpaso.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Dated: September 22, 2011.
Kimberly D. Bose,
Secretary.

[FR Doc. 2011-24961 Filed 9-27-11; 8:45 am]

BILLING CODE 6717-01-P